DEPARTMENT OF EDUCATION

[CFDA No. 84.330B]

Advanced Placement (AP) Test Fee Program

AGENCY: Office of Elementary and Secondary Education (OESE), Department of Education.

ACTION: Notice reopening the AP Test Fee fiscal year (FY) 2007 competition.

SUMMARY: On November 21, 2006, we published in the Federal Register (71 FR 67346) a notice inviting applications for the AP Test Fee FY 2007 competition. That notice established a January 5, 2007 deadline date for eligible applicants to apply for funding under this program. As a result of the applications we received, thirty-four awards were made on March 6, 2007.

In order to afford as many eligible applicants as possible an opportunity to receive funding under this program, we are reopening the AP Test Fee FY 2007 competition to eligible applicants that were not awarded funds on March 6, 2007. All information in the November 21, 2006 notice remains the same for this notice reopening the competition, except for the following updates to DATES.

DATES: Applications Available: April 4, 2007.

Deadline for Transmittal of Applications: April 18, 2007.

Note: Applications for grants under this program must be submitted electronically using the Governmentwide Grants.gov Apply site at http://www.grants.gov. For information about how to submit your application electronically, please refer to Electronic Submission of Applications in the November 21, 2006 notice (71 FR 67346-67348). We encourage eligible applicants to submit their applications as soon as possible to avoid any problems with filing electronic applications on the last day.

Deadline for Intergovernmental Review: May 4, 2007.

FOR FURTHER INFORMATION CONTACT: Ms. Lynyetta Johnson, U.S. Department of Education, 400 Maryland Avenue, SW., Washington, DC 20202-6200. Telephone: (202) 260-1990 or via Internet: advancedplacementprogram@ed.gov.

If you use a telecommunications device for the deaf (TDD), you may call the Federal Relay Service (FRS) at 1-800-877-8339. Individuals with disabilities may obtain this notice in an alternative format (e.g., Braille, large print, audiotape, or computer diskette) on request to the contact person listed in this section.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 6531-6537.

Dated: March 30, 2007.
Kerri L. Briggs,
Acting Assistant Secretary for Elementary and Secondary Education.

[FR Doc. E7-6255 Filed 4-3-07; 8:45 am]

BILLING CODE 4000-01-P